DEPARTMENT OF AGRICULTURE

Rural Utilities Service

Announcement of Grant Application Deadlines

AGENCY: Rural Utilities Service, USDA.

ACTION: Notice of solicitation of applications.

SUMMARY: The Rural Utilities Service (RUS) announces its Distance Learning and Telemedicine (DLT) Program grant application window for funding during fiscal year (FY) 2005 subject to the availability of funding. FY 2004 funding for the DLT grant program was approximately $24.6 million. This notice is being issued prior to passage of a final appropriations bill to allow applicants sufficient time to submit proposals and give RUS maximum time to process applications within the current fiscal year. A Notice of Funding Availability will be published announcing the funding level for the DLT grant program once an appropriations bill providing funding for DLT grants has been enacted. Expenses incurred in developing applications will be at the applicant's risk.

In addition to announcing application windows, RUS announces the minimum and maximum amounts for DLT grants applicable for the fiscal year.

DATES: You may submit completed applications for grants on paper or electronically according to the following deadlines:

• Paper copies must be postmarked and mailed, shipped, or sent overnight no later than February 1, 2005, to be eligible for FY 2005 grant funding. Late applications are not eligible for FY 2005 grant funding.

• Electronic copies must be received by February 1, 2005, to be eligible for FY 2005 grant funding. Late applications are not eligible for FY 2005 grant funding.

• RUS will examine applications for items that would disqualify them from consideration if the applications are submitted on paper by January 3, 2005.

ADDRESSES: You may obtain application guides and materials for the DLT grant program via the Internet at the DLT Web site: http://www.usda.gov/rus/telecom/dlt/dlt.htm. You may also request application guides and materials from RUS by contacting the DLT Program at (202) 720-0413.

Submit completed paper applications for grants to the Rural Utilities Service, U.S. Department of Agriculture, 1400 Independence Ave., SW., Room 2845, STOP 1550, Washington, DC 20250-1550. Applications should be marked “Attention: Director, Advanced Services Division, Telecommunications Program.”

Submit electronic grant applications at http://www.grants.gov (Grants.gov), following the instructions you find on that Web site.

FOR FURTHER INFORMATION CONTACT: Orren E. Cameron, III, Director, Advanced Services Division, Rural Utilities Service, U.S. Department of Agriculture, telephone: (202) 720-0413, fax: (202) 720-1051.

SUPPLEMENTARY INFORMATION:

Overview

Federal Agency: Rural Utilities Service (RUS).

Funding Opportunity Title: Distance Learning and Telemedicine Grants.

Announcement Type: Initial announcement.

Catalog of Federal Domestic Assistance (CFDA) Number: 10.855.

Dates: You may submit completed applications for grants on paper or electronically according to the following deadlines:

• Paper copies must be postmarked and mailed, shipped, or sent overnight no later than February 1, 2005, to be eligible for FY 2005 grant funding. Late applications are not eligible for FY 2005 grant funding.

• Electronic copies must be received by February 1, 2005, to be eligible for FY 2005 grant funding. Late applications are not eligible for FY 2005 grant funding.

• RUS will examine applications for items that would disqualify them from consideration if the applications are submitted on paper by January 3, 2005.

Items in Supplementary Information:

I. Funding Opportunity: Brief introduction to the DLT program

II. Minimum and Maximum Application Amounts

III. Eligibility Information: Who is eligible, what kinds of projects are eligible, what criteria determine basic eligibility

IV. Application and Submission Information: Where to get application materials, what constitutes a completed application, how and where to submit applications, deadlines, items that are eligible

V. Application Review Information: considerations and preferences, scoring criteria, review standards, selection information

VI. Award Administration Information: Award notice information, award recipient reporting requirements

VII. Agency Contacts: Web, phone, fax, e-mail, contact name

I. Funding Opportunity

Distance learning and telemedicine grants are specifically designed to provide access to education, training and health care resources for people in rural America. The Distance Learning and Telemedicine (DLT) Program (administered by the Universal Services Branch of the Rural Utilities Service (RUS)) funds the use of advanced telecommunications technologies to help communities meet those needs.

The grants, which are awarded through competitive process, may be used to fund telecommunications, computer networks and related advanced technologies.

II. Maximum and Minimum Amount of Grant Applications

Under 7 CFR 1703.124, the Administrator has determined the maximum amount of an application for a grant in FY 2005 is $500,000 and the minimum amount of a grant is $50,000.

RUS will make awards and execute documents appropriate to the project after an appropriations bill has been enacted for FY 2005 and prior to any advance of funds to successful applicants.

DLT grants cannot be renewed. Award documents specify the term of each award. Applications to extend existing projects are welcomed (grant applications must be submitted during the application window) and will be evaluated as new applications.

III. Eligibility Information

A. Who is eligible for grants? (See 7 CFR 1703.103.)

1. Only entities legally organized as one of the following are eligible for DLT grants:

a. An incorporated organization or partnership,

b. An Indian tribe or tribal organization, as defined in 25 U.S.C. 450b (b) and (c),

c. A state or local unit of government,

d. A consortium, as defined in 7 CFR 1703.102, or

e. Other legal entity, including a private corporation organized on a for-profit or not-for profit basis.

2. Individuals are not eligible for DLT grants directly.

3. Electric and telecommunications borrowers under the Rural Electrification Act of 1936 (7 U.S.C. 950aaa et seq.) are not eligible for grants.

B. What are the basic eligibility requirements for a project?

1. Required matching contributions.

See Section IV of this notice and 7 CFR 1703.125(g) for information on documentation of matching contributions.

a. Grant applicants must demonstrate a matching contribution, in cash or in kind (new, non-depreciated items), of at least fifteen (15) percent of the total amount of RUS financial assistance requested. Matching contributions must be used for eligible purposes of DLT grant assistance (see 7 CFR 1703.121 and paragraph IV.G of this notice). Greater amounts of eligible matching contributions may increase an applicant's score (see 7 CFR 1703.126(b)(4) and paragraph V.B.2.d of this notice).

2. The DLT grant program is designed to flow the benefits of distance learning and telemedicine to residents of rural America (see 7 CFR 1703.103(a)(2)). Therefore, in order to be eligible, applicants must propose to use the financial assistance to:

a. Operate a rural community facility; or

b. Deliver distance learning or telemedicine services to entities that operate a rural community facility or to residents of rural areas, at rates calculated to ensure that the benefit of the financial assistance is passed through to such entities or to residents of rural areas.

4. Rurality.

a. All projects that applicants propose to fund with RUS grant assistance must meet a minimum rurality threshold, to ensure that benefits from the projects flow to rural residents. The minimum eligibility score is 20 points. Please see Section IV of this notice and 7 CFR 1703.126(a)(2) for an explanation of the rurality scoring and eligibility criterion.

b. Each application must apply the following criteria to each of its end-user sites, and hubs that are also proposed as end-user sites, in order to determine a rurality score. The rurality score is the average of all end-user sites' rurality scores.

Criterion | Character | Population | DLT points
Exceptionally Rural Area | Area not within a city, village or borough | ≤5000 | 45
Rural Area | incorporated or unincorporated area | >5000 and ≤10,000 | 30
Mid-Rural Area | incorporated or unincorporated area | >10,000 and ≤20,000 | 15
Urban Area | incorporated or unincorporated area | >20,000 | 0

c. The rurality score is one of the competitive scoring criteria applied to grant applications.

5. Projects located in areas covered by the Coastal Barrier Resources Act (16 U.S.C. 3501 et seq.) are not eligible for grants from the DLT Program. Please see 7 CFR 1703.123(a)(11).

C. See paragraph IV.B of this notice for a discussion of the items that make up a completed application. You may also refer to 7 CFR 1703.125 for completed grant application items.

IV. Application and Submission Information

A. Where to get application information. Application guides, copies of necessary forms and samples, and the DLT Program regulation are available from these sources:

1. The Internet: http://www.usda.gov/rus/telecom/dlt/dlt.htm, or http://www.grants.gov.

2. The DLT Program of RUS for paper copies of these materials: (202) 720-0413.

B. What constitutes a completed application?

1. Detailed information on each item in the table in paragraph IV.B.6 of this notice can be found in the sections of the DLT Program regulation listed in the table, and the DLT grant application guide. Applicants are strongly encouraged to read and apply both the regulation and the application guide.

a. When the table refers to a narrative, it means a written statement, description or other written material prepared by the applicant, for which no form exists. RUS recognizes that each project is unique and requests narratives of varying complexity to allow applicants to fully explain their request for financial assistance.

b. When documentation is requested, it means letters, certifications, legal documents or other third-party documentation that provide evidence that the applicant meets the listed requirement. For example, to confirm Enterprise Zone (EZ) designations, applicants use various types of documents, such as letters from appropriate government bodies and copies of appropriate USDA Web pages. Leveraging documentation sometimes include letters of commitment from other funding sources, or other documents specifying in-kind donations. Evidence of legal existence is sometimes proven by applicants who submit articles of incorporation. None of the foregoing examples is intended to limit the types of documentation that may be submitted to fulfill a requirement. DLT Program regulations and the application guide provide specific guidance on each of the items in the table.

2. The DLT application guide and ancillary materials provide all necessary forms and sample worksheets.

3. While the table in paragraph IV.B.6 of this notice includes all items of a completed application for each program, RUS may ask for additional or clarifying information if the submitted items do not fully address a criterion or other provision. RUS will communicate with applicants if the need for additional information arises.

4. Submit the required application items in the order provided in the application guide.

5. DUNS Number. As required by the OMB, all applicants for grants must supply a Dun and Bradstreet Data Universal Numbering System (DUNS) number when applying. The Standard Form 424 (SF-424) contains a field for you to use when supplying your DUNS number. Obtaining a DUNS number costs nothing and requires a short telephone call to Dun and Bradstreet. Please see Grants.gov for more information on how to obtain a DUNS number or how to verify your organization's number.

6.—Table of Required Elements of a Completed Grant Application
Application item | REQUIRED items: Grants (7 CFR 1703.125 and CFR 1703.126) | REQUIRED items: Notes
SF-424 (Application for Federal Assistance form) | Yes | Completely filled out.
Executive Summary | Yes | Narrative.
Objective Scoring Worksheet | Yes | Recommend using the RUS worksheet.
Rural Calculation Table | Yes | Recommend using the RUS worksheet.
National School Lunch Program Determination | Yes | Recommend using the RUS worksheet; must include source documentation.
EZ/EC or Champion Communities designation | Yes | Documentation.
Documented Need for Services/Benefits Derived from Services | Yes | Narrative & documentation, if necessary.
Innovativeness of the Project | Yes | Narrative & documentation.
Budget | Yes | Table or spreadsheet; Recommend using the RUS format.
Leveraging Evidence and Funding Commitments from All Sources | Yes | Documentation.
Financial Information/Sustainability | Yes | Narrative.
System/Project Cost Effectiveness | Yes | Narrative & documentation.
Telecommunications System Plan | Yes | Narrative & documentation; maps or diagrams, if appropriate.
Proposed Scope of Work | Yes | Narrative or other appropriate format.
Statement of Experience | Yes | Narrative 3-page, single-spaced limit.
Consultation with the USDA State Director, Rural Development | Yes | Documentation.
Application conforms with State Strategic Plan per USDA State Director, Rural Development, (if plan exists) | Yes | Documentation.
Certifications:
Equal Opportunity and Nondiscrimination | Yes | Recommend using the RUS sample form.
Architectural Barriers | Yes | Recommend using the RUS sample form.
Flood Hazard Area Precautions | Yes | Recommend using the RUS sample form.
Uniform Relocation Assistance and Real Property Acquisition Policies Act of 1970 | Yes | Recommend using the RUS sample form.
Drug-Free Workplace | Yes | Recommend using the RUS sample form.
Debarment, Suspension, and Other Responsibility Matters—Primary Covered Transactions | Yes | Recommend using the RUS sample form.
Lobbying for Contracts, Grants, Loans, and Cooperative Agreements | Yes | Recommend using the RUS sample form.
Non-Duplication of Services | Yes | Recommend using the RUS sample form.
Environmental Impact/Historic Preservation Certification | Yes | Recommend using the RUS sample form.
Federal Obligations on Delinquent Debt | Yes | Recommend using the RUS sample form.
Evidence of Legal Authority to Contract with the Government (documentation) | Yes | Recommend using the RUS sample form.
Evidence of Legal Existence (documentation) | Yes | Recommend using the RUS sample form.
Supplemental Information (if any) | Optional | Narrative, documentation or other appropriate format.

C. How many copies of an application are required?

1. Applications submitted on paper:

a. Submit the original application and two (2) copies to RUS.

b. Submit one (1) additional copy to the State government point of contact (if one has been designated) at the same time as you submit the application to RUS. See http://www.whitehouse.gov/omb/grants/spoc.html for an updated listing of State government points of contact or contact the DLT branch.

2. Electronically submitted applications:

a. The additional paper copies for RUS specified in 7 CFR 1703.128(c) and 7 CFR 1703.136(b) are not necessary if you submit the application electronically through Grants.gov.

b. Submit one (1) copy to the State government point of contact (if one has been designated) at the same time as you submit the application to RUS. See http://www.whitehouse.gov/omb/grants/spoc.html for an updated listing of State government points of contact.

D. How and where to submit an application. Grant applications may be submitted on paper or electronically.

1. Submitting applications on paper.

a. Address paper applications for grants to the Rural Utilities Service, U.S. Department of Agriculture, 1400 Independence Ave., SW, Room 2845, STOP 1550, Washington, DC 20250-1550. Applications should be marked “Attention: Director, Advanced Services Division, Telecommunications Program.”

b. Paper applications must show proof of mailing or shipping consisting of one of the following:

(i) A legibly dated U.S. Postal Service (USPS) postmark;

(ii) A legible mail receipt with the date of mailing stamped by the USPS; or

(iii) A dated shipping label, invoice, or receipt from a commercial carrier.

c. Due to screening procedures at the Department of Agriculture, packages arriving via the USPS are irradiated, which can damage the contents and delay delivery of your application to the DLT program. RUS encourages applicants to consider the impact of this procedure in selecting their application delivery method.

2. Electronically submitted applications:

a. Applications will not be accepted via facsimile machine transmission or electronic mail.

b. Electronic applications for grants will be accepted if submitted through the Federal government's Grants.gov initiative at http://www.grants.gov.

c. If you want RUS to review your application for items that would disqualify it for further consideration (see paragraph V.D of this notice), please do not use Grants.gov. Submit your application on paper. Grants.gov does not yet support such pre-application reviews.

d. How to use Grants.gov:

e. Grants.gov contains full instructions on all required passwords, credentialing and software.

(i) Central Contractor Registry. In addition to the DUNS number required of all grant applicants, submitting an application through Grants.gov requires that you list your organization in the Central Contractor Registry (CCR). Setting up a CCR listing (a one-time procedure with annual updates) takes up to five business days, so RUS strongly recommends that you obtain your organization's DUNS number and CCR listing well in advance of the deadline specified in this notice.

(ii) Credentialing and authorization of applicants. Grants.gov will also require some one-time credentialing and online authentication procedures. These procedures may take several business days to complete, further emphasizing the need for early action to complete the sign-up, credentialing and authorization procedures at Grants.gov before you submit an application at that Web site.

f. RUS encourages applicants who wish to apply through Grants.gov to submit their applications in advance of the deadlines.

g. If a system problem occurs or you have technical difficulties with an electronic application, please use the customer support resources available at the Grants.gov Web site.

E. Deadlines.

1. Paper applications must be postmarked and mailed, shipped, or sent overnight no later than February 1, 2005, to be eligible for FY 2005 grant funding. Late applications are not eligible for FY 2005 grant funding.

2. Electronic grant applications must be received by February 1, 2005, to be eligible for FY 2005 funding. Late applications are not eligible for FY 2005 grant funding.

3. RUS will examine applications for items that would disqualify them from consider if the applications are submitted on paper by January 3, 2005.

F. Intergovernmental Review. The DLT grant program is subject to Executive Order 12372, “Intergovernmental Review of Federal Programs.” As stated in paragraph IV.C of this notice, a copy of a DLT grant application must be submitted to the State single point of contact if one has been designated. Please see http://www.whitehouse.gov/omb/grants/spoc.html to determine whether your state has a single point of contact.

G. Funding Restrictions.

1. Eligible purposes.

a. End-user sites may receive financial assistance; hub sites (rural or non-rural) may also receive financial assistance if they are necessary to provide DLT services to end-user sites. Please see 7 CFR 1703.101(h).

b. To fulfill the policy goals laid out for the DLT Program in 7 CFR 1703.101, the following table lists purposes for financial assistance and whether each purpose is eligible for the assistance. Please consult the application guide and the regulations (7 CFR 1703.102 for definitions, in combination with the portions of the regulation cited in the table for each type of financial assistance) for detailed requirements for the items in the table. RUS strongly recommends that applicant exclude ineligible items from the grant and match portions of their project budgets. However, some items ineligible for funding or matching contributions may be vital to the project. RUS encourages applicants to document those costs in the application budget. Please see the application guide for a sample, recommended budget format.

| Grants (7 CFR 1703.121 and 7 CFR 1703.123)
Lease or purchase of eligible DLT equipment and facilities | Yes—equipment only.
Acquire instructional programming | Yes.
Technical assistance, develop instructional programming, engineering or environmental studies | Yes, not to exceed 10% of the grant.
Medical or education equipment or facilities necessary to the project | No.
Vehicles using distance learning or telemedicine technology to deliver services | No.
Teacher-student links located at the same facility | No, if this is the sole project objective.
Links between medical professionals located at the same facility | No, if this is the sole project objective.
Site development or building alteration | No.
Land or building purchase | No.
Building construction | No.
Acquiring telecommunications transmission facilities | No.
Salaries, wages, benefits for medical or educational personnel | No.
Salaries/administrative expenses of applicant or project | No.
Recurring project costs or operating expenses | No. Equipment leases are eligible. Telecommunications connection charges are not eligible.
Equipment to be owned by the LEC or other telecommunications service provider, if the provider is the applicant | Yes.
Duplicate distance learning or telemedicine services | No.
Any project that, for its success, depends on additional DLT financial assistance or other financial assistance that is not assured | No.
Application preparation costs | No.
Other project costs not covered in regulation | No.
Costs & facilities providing distance learning broadcasting | No.
Reimburse applicant or others for costs incurred prior to RUS receipt of completed application | No.

2. Eligible Equipment & Facilities. Please see 7 CFR 1703.102 for definitions of eligible equipment, eligible facilities and telecommunications transmission facilities as used in the table above.

V. Application Review Information

A. Special Considerations or Preferences

1. American Samoa, Guam, Virgin Islands, and Northern Mariana Islands applications are exempt from the matching requirement up to a match amount of $200,000 (see 48 U.S.C. 1469a; 91 Stat. 1164).

B. Criteria

1. Grant applications are scored competitively and subject to the criteria listed below.

2. Grant application scoring criteria (total possible points: 235) See 7 CFR 1703.125 for the items that will be reviewed during scoring, and 7 CFR 1703.126 for scoring criteria.

a. Need for services proposed in the application, and the benefits that will be derived if the application receives a grant (up to 55 points).

b. Rurality of the proposed service area (up to 45 points).

c. Percentage of students eligible for the National School Lunch Program (NSLP) in the proposed service area (demonstrates economic need of the area) (up to 35 points).

d. Leveraging resources above the required matching level (up to 35 points). Please see paragraph III.B.1.a of this notice for a brief explanation of matching contributions.

e. Level of innovation demonstrated by the project (up to 15 points).

f. System cost-effectiveness (up to 35 points).

g. Project overlap with Empowerment Zone, Enterprise Communities or Champion Communities designations (up to 15 points).

C. Review Standards

1. In addition to the scoring criteria that rank applications against each other, RUS evaluates grant applications for possible awards on the following items, according to 7 CFR 1703.127:

a. Financial feasibility.

b. Technical considerations. If the application contains flaws that would prevent the successful implementation, operation or sustainability of a project, RUS will not award a grant.

c. Other aspects of proposals that contain inadequacies that would undermine the ability of the project to comply with the policies of the DLT Program.

D. As a courtesy, RUS will examine, provide comment, and return applications that include items that would disqualify them from further consideration for modification, if the applications are submitted by January 3, 2005. If you want RUS to examine your application in this manner, please submit your application on paper. Grants.gov does not currently support this kind of pre-application review.

E. Selection Process

Grant applications are ranked by final score, and by application purpose (education or medical). RUS selects applications based on those rankings, subject to the availability of funds. RUS may allocate grant awards between medical and educational purposes, but is not required to do so. In addition, RUS has the authority to limit the number of applications selected in any one State during a fiscal year. See 7 CFR 1703.127.

VI. Award Administration Information

A. Award Notices

Awards will be made and notices sent only after an appropriations bill has been enacted for FY 2005 funding the DLT grant program. RUS generally notifies applicants whose projects are selected for awards by faxing an award letter. RUS follows the award letter with a grant agreement that contains all the terms and conditions for the grant. RUS recognizes that each funded project is unique, and therefore may attach conditions to different projects' award documents. An applicant must execute and return the grant agreement, accompanied by any additional items required by the grant agreement, within 120 days of the selection date.

B. Administrative and National Policy Requirements

The items listed in Section IV of this notice, and the DLT Program regulation, application guide and accompanying materials implement the appropriate administrative and national policy requirements.

C. Reporting

1. Performance reporting. All recipients of DLT financial assistance must provide annual performance activity reports to RUS until the project is complete and the funds are expended. A final performance report is also required; the final report may serve as the last annual report. The final report must include an evaluation of the success of the project in meeting DLT Program objectives. See 7 CFR 1703.107.

2. Financial reporting. All recipients of DLT financial assistance must provide an annual audit, beginning with the first year a portion of the financial assistance is expended. Audits are governed by United States Department of Agriculture audit regulations. Please see 7 CFR 1703.108.

VII. Agency Contacts

A. Web site: http://www.usda.gov/rus/telecom/dlt/dlt.htm. The RUS' DLT Web site maintains up-to-date resources and contact information for DLT programs.

B. Phone: 202-720-0413.

C. Fax: 202-720-1051.

D. E-mail: dltinfo@usda.gov.

E. Main point of contact: Orren E. Cameron, III, Director, Advanced Services Division, Rural Utilities Service, U.S. Department of Agriculture.

Dated: November 30, 2004.
Curtis M. Anderson,
Acting Administrator, Rural Utilities Service.

[FR Doc. 04-26649 Filed 12-2-04; 8:45 am]

BILLING CODE 3410-15-P